DEPARTMENT OF STATE

[Public Notice: 10017]

In the Matter of the Designation of Abu Nidal Organization, Also Known as ANO, Also Known as Black September, Also Known as the Fatah Revolutionary Council, Also Known as the Arab Revolutionary Council, Also Known as the Arab Revolutionary Brigades, Also Known as the Revolutionary Organization of Socialist Muslims Pursuant to Section 219 of the Immigration and Nationality Act, as Amended

Based upon a review of the Administrative Record assembled in this matter, and in consultation with the Attorney General and the Secretary of the Treasury, I conclude that the circumstances that were the basis for the designation of the Abu Nidal Organization as foreign terrorist organization have changed in such a manner as to warrant revocation of the designation.

Therefore, I hereby determine that the designation of the Abu Nidal Organization as a foreign terrorist organization, pursuant to section 219 of the Immigration and Nationality Act, as amended (8 U.S.C. 1189), shall be revoked.

This determination shall be published in the Federal Register.

Dated: May 10, 2017.
Rex W. Tillerson,
Secretary of State.

[FR Doc. 2017-11442 Filed 6-1-17; 8:45 am]

BILLING CODE 4710-AD-P